DEPARTMENT OF AGRICULTURE

Agricultural Marketing Service

[Docket No. AMS-LS-07-0056, LS-07-17]

Sorghum Promotion, Research, and Information: Certification of Organizations for Eligibility To Make Nominations to the Sorghum Promotion, Research, and Information Board

AGENCY: Agricultural Marketing Service, USDA.

ACTION: Notice.

SUMMARY: Notice is hereby given that the Department of Agriculture's (USDA) Agricultural Marketing Service (AMS) is accepting applications from State, regional, and national sorghum producer organizations or associations which desire to be certified as eligible to nominate sorghum producers for appointment to the Sorghum Promotion, Research, and Information Board (Board). To nominate a producer to the Board, organizations must first be certified by USDA. Notice is also given that upcoming appointments are anticipated and that during a period to be established by USDA, nominations will be accepted from eligible organizations.

DATES: Applications for certification must be received by close of business July 2, 2008.

ADDRESSES: Certification forms as well as information regarding the certification and nomination procedures may be requested from Kenneth R. Payne, Chief, Marketing Programs Branch; Livestock and Seed Program; AMS; USDA; Room 2628-S; STOP 0251; 1400 Independence Avenue, SW.; Washington, DC 20250-0251 or obtained via the Internet at http://www.ams.usda.gov/LSMarketingPrograms.

FOR FURTHER INFORMATION CONTACT: Kenneth R. Payne, Chief, Marketing Programs Branch; Telephone: 202/720-1115; Fax: 202/720-1125; or e-mail Kenneth.Payne@usda.gov.

SUPPLEMENTARY INFORMATION: (a) The Commodity Promotion, Research, and Consumer Information Act of 1996 (Act) (7 U.S.C. 7411-7425) authorizes the establishment and implementation of the sorghum promotion, research, and information program. Pursuant to the Act, a proposed Sorghum Promotion, Research, and Information Order (Order) was published in the Federal Register on November 23, 2007 (72 FR 65842). The final Order was published in the Federal Register on May 6, 2008 (73 FR 25398). The Order provides for the establishment of an initial 13-member Board of persons appointed by the Secretary of Agriculture with staggered terms as follows:

The largest production State based on total production shall have five sorghum producers to serve as representatives.

The second largest production State based on total production shall have three sorghum producers to serve as representatives.

The third largest production State based on total production shall have one sorghum producer to serve as a representative.

There shall be four sorghum producers to serve as at-large national representatives with at least two representatives appointed from States other than the top three sorghum producing States.

If the value of assessments on imported sorghum reaches or exceeds the production of the third largest sorghum producing State, there shall be one importer to serve as a representative plus an additional at-large national representative, with the maximum number of producers from one State being increased from six to seven. The duties and responsibilities of the Board are set forth in the Order.

The Order provides that USDA shall certify or otherwise determine the eligibility of any State, regional, or national sorghum producer organizations or associations that meet the eligibility criteria established under the Order. Those organizations that meet the eligibility criteria specified under the Order will be certified as eligible to nominate members for appointment to the Board. Those organizations should ensure that the nominees represent the interests of the sorghum industry.

The Order provides that the members of the Board shall serve for terms of 3 years, except that appointments to the initially established Board shall be as follows:

Largest Producing State—2 representatives shall serve a 2-year term, 1 representative shall serve a 3-year term, and 2 representatives shall serve a 4-year term;

Second Largest Producing State—1 representative shall serve a 2-year term, 1 representative shall serve a 3-year term, and 1 representative shall serve a 4-year term;

Third Largest Producing State—The representative shall serve a 3-year term;

At-large national—1 representative shall serve a 2-year term, 2 representatives shall serve a 3-year term, and 1 representative shall serve a 4-year term.

Representatives serving initial terms of 2 or 4 years shall be eligible to serve a single term of 3 years after their initial 2- or 4-year term.

Each representative shall continue to serve until a successor is appointed by the Secretary and has accepted the position. No person may serve more than two consecutive 3-year terms. USDA will announce when nominations will be due from eligible organizations and when any subsequent nominations are due when a vacancy does or will exist.

Any eligible producer organization that is interested in being certified to nominate producers for appointment to the Board, must complete and submit an official “Application for Certification of Organization” form. That form must be received by close of business July 2, 2008.

Only those organizations that meet the criteria for certification of eligibility specified under § 1221.107 under the Order are eligible for certification.

The eligibility of State, regional, or national organizations to participate in making nominations for membership on the Board shall be certified by the Secretary. Those organizations that may seek certification include:

(1) State-legislated sorghum promotion, research, and information organizations;

(2) Organizations whose primary purpose is to represent sorghum producers within a State, region, or at the national level; or,

(3) Organizations that have sorghum producers as members.

Eligibility shall be based, in addition to other information, upon a report submitted by the organization that shall contain information deemed relevant and specified by the Secretary for the making of such determination, including the following:

(1) The geographic territory covered by the organization's active membership;

(2) The nature and size of the organization's active membership, proportion of active membership accounted for by producers, a map showing the sorghum producing counties in which the organization has active members, the volume of sorghum produced in each such county, the number of sorghum producers in each such county, and the size of the organization's active sorghum producer membership in each such county;

(3) The extent to which the sorghum producer membership of such organization is represented in setting the organization's policies;

(4) Evidence of stability and permanency of the organization;

(5) Sources from which the organization's operating funds are derived;

(6) The functions of the organization; and

(7) The ability and willingness of the organization to further the purpose and objectives of the Act.

The primary consideration in determining the eligibility of an organization shall be whether its sorghum producer membership consists of a sufficiently large number of sorghum producers who produce a relatively significant volume of sorghum to reasonably warrant its participation in the nomination of State specific and national at-large members to the Board. Any sorghum producer organization found eligible by the Secretary under this section shall be certified by the Secretary, and the Secretary's determination as to eligibility shall be final.

The information collection requirements referenced in this notice have been submitted to the Office of Management and Budget (OMB) under the provisions of the Paperwork Reduction Act of 1995 (44 U.S.C., Chapter 35) for review.

Authority: 7 U.S.C. 7411-7425.

Dated: May 27, 2008.
Lloyd C. Day,
Administrator, Agricultural Marketing Service.

[FR Doc. E8-12220 Filed 5-30-08; 8:45 am]

BILLING CODE 3410-02-P